DEPARTMENT OF EDUCATION

National Institute on Disability and Rehabilitation Research; Disability and Rehabilitation Research Projects and Centers Program; Disability Rehabilitation Research Projects (DRRPs)

AGENCY: Office of Special Education and Rehabilitative Services, Department of Education.

ACTION: Notice of final priorities for DRRPs, including priorities for the National Data and Statistical Center for the Spinal Cord Injury (SCI) Model Systems and the National Data and Statistical Center for the Traumatic Brain Injury (TBI) Model Systems.

SUMMARY: The Assistant Secretary for Special Education and Rehabilitative Services announces certain final priorities for the Disability and Rehabilitation Research Projects and Centers Program administered by the National Institute on Disability and Rehabilitation Research (NIDRR). Specifically, this notice announces three priorities—a priority for General DRRP Requirements, a priority for the National Data and Statistical Center for the SCI Model Systems and a priority for the National Data and Statistical Center for the TBI Model Systems. The Assistant Secretary may use these priorities for competitions in fiscal year (FY) 2006 and later years. We take this action to focus research attention on areas of national need. We intend that these priorities will improve rehabilitation services and outcomes for individuals with disabilities.

DATES: Effective Date: These priorities are effective May 30, 2006.

FOR FURTHER INFORMATION CONTACT: Donna Nangle, U.S. Department of Education, 400 Maryland Avenue, SW., room 6030, Potomac Center Plaza, Washington, DC 20202-2700. Telephone: (202) 245-7462 or by e-mail: donna.nangle@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Disability and Rehabilitation Research Projects (DRRP) Program

The purpose of the DRRP program is to plan and conduct research, demonstration projects, training, and related activities to develop methods, procedures, and rehabilitation technology that maximize the full inclusion and integration into society, employment, independent living, family support, and economic and social self-sufficiency of individuals with disabilities, especially individuals with the most severe disabilities, and to improve the effectiveness of services authorized under the Rehabilitation Act of 1973, as amended. DRRPs carry out one or more of the following types of activities, as specified and defined in 34 CFR 350.13 through 350.19: research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b).

Additional information on the DRRP program can be found at: http://www.ed.gov/rschstat/research/pubs/res-program.html#DRRP.

We published a notice of proposed priorities (NPP) for NIDRR's Disability and Rehabilitation Research Projects and Centers Program, including the DRRP program, in the Federal Register on February 7, 2006 (71 FR 6318). The NPP included a background statement that described our rationale for each priority proposed in that notice.

This notice of final priorities (NFP) addresses only 3 of the 15 priorities proposed in the NPP. The priorities addressed in this NFP are as follows: General DRRP Requirements (designated as Priority 1 in the NPP), National Data and Statistical Center for the SCI Model Systems (designated as Priority 2 in the NPP), and National Data and Statistical Center for the TBI Model Systems (designated as Priority 3 in the NPP). Because of the volume of comments received in response to the NPP, NIDRR intends to publish two separate notices of final priorities for the remaining 12 priorities proposed in the NPP (i.e., those priorities designated as Priorities 4 through 15 in the NPP). More information on these other priorities and the projects and programs that NIDRR intends to fund in FY 2006 can be found on the Internet at the following site: http://www.ed.gov/fund/grant/apply/nidrr/priority-matrix.html.

This NFP contains two changes from the NPP in each of the National Data and Statistical Center for the SCI Model Systems priority and the National Data and Statistical Center for the TBI Model Systems priority. We have made no changes to the priority for General DRRP Requirements.

An analysis of the comments and the changes in these priorities since publication of the NPP follows. We discuss major issues according to subject.

Generally, we do not address technical and other minor changes and suggested changes we are not authorized to make under the applicable statutory authority.

Analysis of Comments and Changes

In response to our invitation in the NPP, we received no comments on the General DRRP Requirements priority, two parties submitted comments on the proposed priority for the National Data and Statistical Center for the TBI Model Systems, and one party submitted comments on the proposed priority for the National Data and Statistical Center for the SCI Model Systems. Because the proposed priorities for the two National Data and Statistical Centers are identical for the SCI and TBI Model Systems Programs, NIDRR's responses to the comments received regarding each center are applicable to both priorities.

Priority 2—National Data and Statistical Center for the TBI Model Systems and Priority 3—National Data and Statistical Center for the SCI Model Systems

Scope of Work

Comment: One commenter asked whether NIDRR expected the National Data and Statistical Centers to engage in dissemination activities on behalf of their respective Model Systems Programs.

Discussion: While past priorities for the National Data and Statistical Center for the TBI Model Systems have required dissemination activities, the current priorities for the National Data and Statistical Centers do not require the centers to engage in dissemination activities. NIDRR expects that its proposed Model Systems Knowledge Translation Center (MSKTC) (see proposed Priority 6 in the NPP) will fulfill this important responsibility. While the National Data and Statistical Centers are not expected to engage in dissemination activities themselves, they are expected to support the dissemination activities of the MSKTC. This support could involve, for instance, supplying data or consulting on dissemination strategies.

Changes: Paragraph (f) of each National Data and Statistical Center priority has been changed to clarify that grantees are required to coordinate with the MSKTC in addition to the National Traumatic Brain Injury Model Systems Data Center and the National Burn Model Systems Data Center in order to improve the quality and efficiency of the SCI Model Systems Database operations.

Comment: One commenter asked whether NIDRR expects or plans to encourage the National Data and Statistical Centers to lead their respective Model Systems Programs in new research projects.

Discussion: While past priorities for the National Data and Statistical Center for the SCI Model Systems have required that the center have a capacity to conduct original research, the current priorities for the National Data and Statistical Centers only require applicants to contribute to the outcome of rigorous research within their respective Model Systems Program by “making statistical and other methodological consultation available for research projects that use the SCI Model Systems Database, as well as center-specific and collaborative projects.” That said, nothing in the priorities would prohibit the centers from participating in research projects to the extent the projects use data collected under the guidance of the centers.

Changes: None.

Continuity of Longitudinal Databases

Comment: One commenter noted that applicants for the National Data and Statistical Center for the SCI Model Systems should be able to propose working with any former SCI Model Systems center—not just those Model Systems centers that were funded by NIDRR in the most recent five-year cycle—in order to enhance the continuity of the SCI Model Systems Database (see paragraph (e) in the proposed priority).

Discussion: NIDRR agrees that applicants should be allowed greater flexibility in collecting follow-up data from individuals who were once enrolled by centers that no longer receive Model Systems program funding. This flexibility is necessary because the task is complex, and there is likely more than one way to carry out this activity.

Changes: Paragraph (e) of each National Data and Statistical Center priority has been changed to clarify that applicants may propose to collaborate with up to four Model Systems centers that were formerly funded by NIDRR but are not receiving current Model Systems Program funding to enhance the continuity of the Model Systems databases.

Comment: Three commenters asked NIDRR to clarify the financial mechanism by which continued collection of data from former Model Systems centers would be achieved.

Discussion: NIDRR will not provide funds directly to former Model Systems centers for the purpose of longitudinal data collection. Applicants for the National Data and Statistical centers must describe in their applications how they propose to work with former Model Systems centers toward the outcome of enhanced continuity of the Model Systems databases. This work could include, or instance, subcontracting with former Model Systems centers.

Changes: None.

Comment: Three commenters asked for clarification on how the National Data and Statistical Centers should budget and plan for the continued collection of data from Model Systems centers that do not receive funding during the National Data and Statistical Centers' grant cycle. These commenters noted that the size of the Model Systems database samples from Model Systems centers formerly funded by NIDRR will not be known until funding decisions for the Model Systems centers have been made in the future.

Discussion: NIDRR's priorities for the National Data and Statistical Centers do not require applicants to collect longitudinal data from every database participant enrolled by former Model Systems centers. This flexibility allows applicants to propose to use a sampling technique to follow a specific number of database participants from formerly funded centers. It is the applicant's responsibility to propose methods to optimize the continuity of their respective Model Systems database, given the resources that are made available through the National Data and Statistical Center grant.

Changes: None.

Note: This notice does not solicit applications. In any year in which we choose to use these proposed priorities, we invite applications through a notice in the Federal Register. When inviting applications we designate the priorities as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: This NFP is in concert with President George W. Bush's New Freedom Initiative (NFI) and NIDRR's Final Long-Range Plan for FY 2005-2009 (Plan). The NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to—(1) Improve the quality and utility of disability and rehabilitation research; (2) Foster an exchange of expertise, information, and training to facilitate the advancement of knowledge and understanding of the unique needs of traditionally underserved populations; (3) Determine best strategies and programs to improve rehabilitation outcomes for underserved populations; (4) Identify research gaps; (5) Identify mechanisms of integrating research and practice; and (6) Disseminate findings.

Priorities

Priority 1—General Disability and Rehabilitation Research Projects (DRRP) Requirements

To meet this priority, the Disability and Rehabilitation Research Projects (DRRP) must—

(a) Coordinate on research projects of mutual interest with relevant NIDRR-funded projects, as identified through consultation with the NIDRR project officer;

(b) Involve individuals with disabilities in planning and implementing the DRRP's research, training, and dissemination activities, and in evaluating its work; and

(c) Identify anticipated outcomes (i.e., advances in knowledge or changes and improvements in policy, practice, behavior, and system capacity) that are linked to the applicant's stated grant objectives.

Priority 2—National Data and Statistical Center for the Spinal Cord Injury (SCI) Model Systems

Priority: The Assistant Secretary for Special Education and Rehabilitative Services establishes a priority for the funding of a National SCI Model Systems Data Center that advances medical rehabilitation by increasing the rigor and efficiency of scientific efforts to longitudinally assess the experience of individuals with SCI. To meet this priority, the National SCI Model Systems Data Center's research and technical assistance must be designed to contribute to the following outcomes:

(a) Maintenance of a national longitudinal database for data submitted by each of the SCI Model Systems Centers (SCI Model Systems Database). This database must provide for confidentiality, quality control, and data-retrieval capabilities, using cost-effective and user-friendly technology.

(b) High-quality, reliable data in the SCI Model Systems Database. The National SCI Model Systems Data Center must contribute to this outcome by providing training and technical assistance to SCI Model Systems Centers on subject retention and data collection procedures, data entry methods, and appropriate use of study instruments, and by monitoring the quality of the data submitted by the SCI Model Systems Centers.

(c) High-quality data collected from database participants of all racial/ethnic backgrounds. The National SCI Model Systems Data Center must contribute to this outcome by providing knowledge, training, and technical assistance to the SCI Model Systems Centers on culturally appropriate methods of longitudinal data collection and participant retention.

(d) Rigorous research conducted by SCI Model Systems Centers and all investigators who are analyzing data from the SCI Model Systems Database. The National SCI Model Systems Data Center must contribute to this outcome by making statistical and other methodological consultation available for research projects that use the SCI Model Systems Database, as well as center-specific and collaborative projects of the SCI Model Systems Program.

(e) Enhanced continuity of the SCI Model Systems Database. The National SCI Model Systems Data Center must contribute to this outcome by establishing and implementing a mechanism for continued collection of follow-up data from individuals who were enrolled by SCI Model Systems Centers that no longer receive Model Systems Program funding. This mechanism must focus on continued collection of data from up to four SCI Model Systems Centers that were previously funded, but that have not received subsequent funding under the Model Systems Program.

(f) Improved quality and efficiency of the SCI Model Systems Database operations through collaboration with the National Traumatic Brain Injury Model Systems Data Center, the National Burn Model Systems Data Center, and the Model Systems Knowledge Translation Center (MSKTC).

Priority 3—National Data and Statistical Center for the Traumatic Brain Injury (TBI) Model Systems

Priority: The Assistant Secretary for Special Education and Rehabilitative Services establishes a priority for the funding of a National TBI Model Systems Data Center that advances medical rehabilitation by increasing the rigor and efficiency of scientific efforts to longitudinally assess the experience of individuals with TBI. To meet this priority, the National TBI Model Systems Data Center's research and technical assistance must be designed to contribute to the following outcomes:

(a) Maintenance of a national longitudinal database for data submitted by each of the TBI Model Systems Centers (TBI Model Systems Database). This database must provide for confidentiality, quality control, and data-retrieval capabilities, using cost-effective and user-friendly technology.

(b) High-quality, reliable data in the TBI Model Systems Database. The National TBI Model Systems Data Center must contribute to this outcome by providing training and technical assistance to TBI Model Systems Centers on subject retention and data collection procedures, data entry methods, and appropriate use of study instruments, and by monitoring the quality of the data submitted by the TBI Model Systems Centers.

(c) High-quality data collected from database participants of all racial/ethnic backgrounds. The National TBI Model Systems Data Center must contribute to this outcome by providing knowledge, training, and technical assistance to the TBI Model Systems Centers on culturally appropriate methods of longitudinal data collection and participant retention.

(d) Rigorous research conducted by TBI Model Systems Centers and all investigators who are analyzing data from the TBI Model Systems Database. The National TBI Model Systems Data Center must contribute to this outcome by making statistical and other methodological consultation available for research projects that use the TBI Model Systems Database, as well as center-specific and collaborative projects of the TBI Model Systems Program.

(e) Enhanced continuity of the TBI Model Systems Database. The National TBI Model Systems Data Center must contribute to this outcome by establishing and implementing a mechanism for continued collection of follow-up data from individuals who were enrolled by TBI Model Systems Centers that no longer receive Model Systems Program funding. This mechanism must focus on continued collection of data from up to four TBI Model Systems Centers that were previously funded, but that have not received subsequent funding under the Model Systems Program.

(f) Improved quality and efficiency of the TBI Model Systems Database operations through collaboration with the National Spinal Cord Injury Model Systems Data Center, the National Burn Model Systems Data Center, and the Model Systems Knowledge Translation Center (MSKTC).

Executive Order 12866

This NFP has been reviewed in accordance with Executive Order 12866. Under the terms of the order, we have assessed the potential costs and benefits of this regulatory action.

The potential costs associated with the NFP are those resulting from statutory requirements and those we have determined as necessary for administering this program effectively and efficiently. In assessing the potential costs and benefits—both quantitative and qualitative—of this NFP, we have determined that the benefits of the final priorities justify the costs.

Summary of potential costs and benefits: The potential costs associated with these final priorities are minimal while the benefits are significant. Grantees may incur some costs associated with completing the application process in terms of staff time, copying, and mailing or delivery. The use of e-Application technology reduces mailing and copying costs significantly.

The benefits of the Disability and Rehabilitation Research Projects and Centers Programs have been well established over the years in that similar projects have been completed successfully. These final priorities will generate new knowledge and technologies through research, development, dissemination, utilization, and technical assistance projects.

Another benefit of these final priorities is that the establishment of new DRRPs will support the President's NFI and improve the lives of persons with disabilities. The new DRRPs will generate, disseminate, and promote the use of new information that will improve the options for individuals with disabilities.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133A, Disability Rehabilitation Research Projects)

Program Authority: 29 U.S.C. 762(g) and 764(a).

Dated: April 25, 2006.
John H. Hager,
Assistant Secretary for Special Education and Rehabilitative Services.

[FR Doc. 06-4030 Filed 4-27-06; 8:45 am]

BILLING CODE 4000-01-P